DEPARTMENT OF COMMERCE

Submission for OMB Review; Comment Request

DOC has submitted to the Office of Management and Budget (OMB) for clearance the following proposal for collection of information under the provisions of the Paperwork Reduction Act (44 U.S.C. Chapter 35).

Agency: Bureau of Economic Analysis (BEA).

Title: Transactions of U.S. Affiliate, Except a U.S. Banking Affiliate, with Foreign Parent (Form BE-605) and Transactions of U.S. Banking Affiliate with Foreign Parent (Form BE-605 Bank).

Form Number(s): BE-605 and BE-605 Bank.

Agency Approval Number: 0608-0009.

Type of Request: Extension of a currently approved collection without any change in the substance or in the method of collection.

Burden: 19,750 hours.

Number of Respondents: 3,950 per quarter; 15,800 annually.

Avg Hours Per Response: 1¼ hours.

Needs and Uses: The U.S. Government requires data from the BE-605 (quarterly) survey for compiling the international transactions accounts, input-output accounts, and national income and product accounts of the United States. The data are also needed to measure the amount of foreign direct investment in the United States, monitor changes in such investment, assess its impact on the U.S. and foreign economies, and, based upon this assessment, make informed policy decisions regarding foreign direct investment in the United States.

Also, the data from the BE-605 survey complement data from BEA's other ongoing surveys of foreign direct investment in the United States, namely the BE-13, Initial Report on a Foreign Person's Direct or Indirect Acquisition, Establishment, or Purchase of the Operating Assets, of a U.S. Business Enterprise, Including Real Estate, and the BE-12 (benchmark) and BE-15 (annual) surveys, which provide data on the overall operations of U.S. affiliates.

Affected Public: U.S. businesses or other for-profit institutions.

Frequency: Quarterly.

Respondent's Obligation: Mandatory.

Legal Authority: Title 22 U.S.C., Sections 3101-3108, as amended.

OMB Desk Officer: Paul Bugg, (202) 395-3093.

You may obtain copies of the above information collection proposal by calling or writing Madeleine Clayton, Departmental Forms Clearance Officer, Office of the Chief Information Officer, (202) 482-3129, Department of Commerce, Room 6086, 14th Street and Constitution Avenue, NW, Washington, DC 20230.

Send comments on the proposed information collection within 30 days of publication of this notice to Paul Bugg, OMB Desk Officer, Room 10201, New Executive Office Building, Washington, DC 20503.

Dated: October 27, 2000.
Madeleine Clayton,
Departmental Forms Clearance Officer, Office of the Chief Information Officer.

[FR Doc. 00-28021 Filed 10-31-00; 8:45 am]

BILLING CODE 3510-06-P